FEDERAL RETIREMENT THRIFT INVESTMENT BOARD

Notice of Board Meeting

DATES: October 24, 2023 at 9 a.m. PDT/12 p.m. EDT.

ADDRESSES: Telephonic. Dial-in (listen only) information: Number: 1-202-599-1426, Code: 716 481 115#; or via web: https://teams.microsoft.com/l/meetup-join/19%3ameeting_M2VhNGNhZjYtODRjYy00NmY3LWI1NDktY2Q3YjI0YTFkYWEw%40thread.v2/0?context=%7b%22Tid%22%3a%223f6323b7-e3fd-4f35-b43d-1a7afae5910d%22%2c%22Oid%22%3a%2241d6f4d1-9772-4b51-a10d-cf72f842224a%22%7d.

FOR FURTHER INFORMATION CONTACT: Kimberly Weaver, Director, Office of External Affairs, (202) 942-1640.

SUPPLEMENTARY INFORMATION:

Board Meeting Agenda

Open Session

1. Approval of the September 26, 2023, Board Meeting Minutes

2. Monthly Reports

(a) Participant Report

(b) Legislative Report

3. Quarterly Reports

(c) Investment Review

(d) Audit Status

(e) Budget Review

Closed Session

4. Information covered under 5 U.S.C. 552b(c)(6) and (c)(10).

Authority: 5 U.S.C. 552b(e)(1).

Dated: October 11, 2023.
Dharmesh Vashee,
General Counsel, Federal Retirement Thrift Investment Board.

[FR Doc. 2023-22803 Filed 10-16-23; 8:45 am]

BILLING CODE P